DEPARTMENT OF TRANSPORTATION

Federal Aviation Administration

[Docket No. FAA-2024-2351]

Agency Information Collection Activities: Requests for Comments; Clearance of a Renewed Approval of Information Collection: Disclosure of Seat Dimensions To Facilitate the Use of Child Safety Seats on Airplanes During Passenger-Carrying Operations

AGENCY: Federal Aviation Administration (FAA), DOT.

ACTION: Notice and request for comments.

SUMMARY: In accordance with the Paperwork Reduction Act of 1995, FAA invites public comments about our intention to request the Office of Management and Budget (OMB) approval to renew an information collection. The collection involves each passenger carrying air carrier operating under the Code of Federal Regulations to post on the internet website of the air carrier the maximum dimensions of a child safety seat that can be used on those aircraft. The information to be collected will be used to facilitate the use of child restraint systems onboard airplanes.

DATES: Written comments should be submitted by November 18, 2024.

ADDRESSES: Please send written comments:

By Electronic Docket: www.regulations.gov (Enter docket number into search field).

By mail: Sandra L. Ray, 1187 Thorn Run Road, Suite 200, Coraopolis, PA 15108.

By fax: 412-239-3063.

FOR FURTHER INFORMATION CONTACT: Sandra L. Ray by email at: Sandra.ray@faa.gov; phone: 412-546-7344.

SUPPLEMENTARY INFORMATION: Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0760.

Title: Disclosure of Seat Dimensions to Facilitate the Use of Child Safety Seats on Airplanes During Passenger-Carrying Operations.

Form Numbers: None.

Type of Review: Renewal of an information collection.

Background: Section 412 of the FAA Modernization and Reform Act of 2012 (Pub. L. 112-95) specifically required the Federal Aviation Administration (FAA) to conduct rulemaking “[T]o require each air carrier operating under part 121 of title 14, Code of Federal Regulations to post on the internet website of the air carrier the maximum dimensions of a child safety seat that can be used on each aircraft operated by the air carrier to enable passengers to determine which child safety seats can be used on those aircraft.” As a result, the FAA amended 14 CFR 121.311, which requires passenger carrying air carriers to make available on their websites the width of the widest passenger seat in each class of service for each make, model and series of airplane used in passenger-carrying operations. Section 412 of Public Law 112-95 requires that all air carriers provide this required information on their internet websites. The vast majority of this burden occurred on a one-time basis as air carriers initially provided information on their websites in order to comply with the regulation. After initial implementation, the only time air carriers need to update their websites after initial implementation is when a new airplane make, model, or series is introduced to an air carrier's fleet, or when an air carrier replaces the widest or narrowest seats installed on an existing airplane make, model, or series with wider or narrower seats. The purpose of this collection is to facilitate the use of child restraint systems onboard airplanes by providing greater information to caregivers to help them determine whether a particular child restraint system will fit in an airplane seat.

Respondents: 47 Part 121 Air Carriers.

Frequency: As Required by Regulation.

Estimated Average Burden per Response: Varies per Requirement.

Estimated Total Annual Burden: 348 hours.

Issued in Washington, DC on September 12, 2024.
Sandra L. Ray,
Aviation Safety Inspector, AFS-260.

[FR Doc. 2024-21089 Filed 9-16-24; 8:45 am]

BILLING CODE 4910-13-P